DEPARTMENT OF COMMERCE

National Oceanic and Atmospheric Administration

50 CFR Part 660

[Docket No. 051014263-6028-03; I.D. 112106B]

Fisheries Off West Coast States; Pacific Coast Groundfish Fishery; Specifications and Management Measures; Inseason Adjustments

AGENCY: National Marine Fisheries Service (NMFS), National Oceanic and Atmospheric Administration (NOAA), Commerce.

ACTION: Inseason adjustments to groundfish management measures; request for comments.

SUMMARY: NMFS announces changes to management measures in the commercial and recreational Pacific Coast groundfish fisheries. These actions, which are authorized by the Pacific Coast Groundfish Fishery Management Plan (FMP), are intended to allow fisheries to access more abundant groundfish stocks while protecting overfished and depleted stocks.

DATES: Effective 0001 hours (local time) December 1, 2006. Comments on this rule will be accepted through December 29, 2006.

ADDRESSES: You may submit comments, identified by I.D. 112106B, by any of the following methods:

• E-mail: GroundfishInseason11.nwr@noaa.gov. Include I.D. 112106B in the subject line of the message.

• Federal eRulemaking Portal: www.regulations.gov. Follow the instructions for submitting comments.

• Mail: D. Robert Lohn, Administrator, Northwest Region, NMFS, Attn: Gretchen Arentzen, 7600 Sand Point Way NE, Seattle, WA 98115-0070.

• Fax: 206-526-6736, Attn: Gretchen Arentzen.

FOR FURTHER INFORMATION CONTACT: Gretchen Arentzen (Northwest Region, NMFS), phone: 206-526-6140; fax: 206-526-6736; or e-mail: gretchen.arentzen@noaa.gov.

SUPPLEMENTARY INFORMATION:

Electronic Access

This Federal Register document is available on the Government Printing Office's website at: www.gpoaccess.gov/fr/index.html.

Background information and documents are available at the Pacific Fishery Management Council's (Pacific Council's) website at: www.pcouncil.org.

Background

The Pacific Coast Groundfish FMP and its implementing regulations at Title 50 in the Code of Federal Regulations (CFR), part 660, subpart G, regulate fishing for over 80 species of groundfish off the coasts of Washington, Oregon, and California. Groundfish specifications and management measures are developed by the Pacific Council, and are implemented by NMFS. The specifications and management measures for 2005-2006 were codified in the CFR (50 CFR part 660, subpart G). They were published in the Federal Register as a proposed rule on September 21, 2004 (69 FR 56550), and as a final rule on December 23, 2004 (69 FR 77012). The final rule was subsequently amended on March 18, 2005 (70 FR 13118); March 30, 2005 (70 FR 16145); April 19, 2005 (70 FR 20304); May 3, 2005 (70 FR 22808); May 4, 2005 (70 FR 23040); May 5, 2005 (70 FR 23804); May 16, 2005 (70 FR 25789); May 19, 2005 (70 FR 28852); July 5, 2005 (70 FR 38596); August 22, 2005 (70 FR 48897); August 31, 2005 (70 FR 51682); October 5, 2005 (70 FR 58066); October 20, 2005 (70 FR 61063); October 24, 2005 (70 FR 61393); November 1, 2005 (70 FR 65861); and December 5, 2005 (70 FR 723850). Longer-term changes to the 2006 specifications and management measures were published in the Federal Register as a proposed rule on December 19, 2005 (70 FR 75115) and as a final rule on February 17, 2006 (71 FR 8489). The final rule was subsequently amended on March 27, 2006 (71 FR 10545), April 11, 2006 (71 FR 18227), April 26, 2006 (71 FR 24601), May 11, 2006 (71 FR 27408), May 22, 2006 (71 FR 29257), June 1, 2006 (71 FR 31104), July 3, 2006 (71 FR 37839), August 7, 2006 (71 FR 44590), August 22, 2006 (71 FR 48824), October 2, (71 FR 57889), October 3, 2006 (71 FR 58289), October 10, 2006 (71 FR 59505), and November 16, 2006 (71 FR 66693).

The changes to current groundfish management measures implemented by this action were recommended by the Pacific Council, in consultation with Pacific Coast Treaty Indian Tribes and the States of Washington, Oregon, and California, at its November 12-17, 2006, meeting in Del Mar, CA. At that meeting, the Pacific Council recommended: (1) requesting industry to take voluntary action to reduce petrale sole catches if catch rates appear too high in December; (2) decreasing the limited entry fixed gear and open access daily-trip-limit (DTL) fishery for sablefish south of 36° N. lat. beginning December 1; and (3) prohibiting retention of cabezon in the recreational fishery in federal waters off Oregon.

Limited Entry Trawl Petrale Sole Fishery

The 2006 estimated total catch of petrale sole is approaching its 2006 ABC/OY. The best available information as of November 11, 2006 estimates petrale sole catch to be 2,174 mt out of an ABC/OY of 2,762, meaning that there are approximately 588 mt remaining for the November-December fishing period (Period 6). There is little recent data to inform catch projections for Period 6 since the Period 6 petrale fishery has largely been closed in the last several years. Based on 2006 fishery information, however, NMFS believes that ongoing fisheries will not exceed the ABC/OY for several reasons: (1) anecdotal information indicates that petrale sole have not yet migrated to open petrale fishing areas; (2) winter weather is expected to remain poor in the near future, which should dampen fishing effort; (3) the Dungeness crab fishery is expected to open in December along much of the coast and many trawl vessels are expected to switch their focus to that more lucrative fishery when it opens; and (4) the Period 6 trawl fishery has a cumulative petrale sole limit in place for 2006 to control catch levels; when petrale sole was available in prior Period 6 fishing periods, there were not limits for this species. In spite of these issues, it is important to consider that: overfishing on petrale sole occurred last year; the fleet is capable of catching in excess of 1,000 mt of petrale sole during a single period (as it did in the winter of 2005); and there is little data to inform this year's Period 6 projections.

The Pacific Council considered several options available to control the catch of this species through the end of the year in the event that catch rates appear higher than a rate that would achieve 588 mt. These options included: (1) closing the petrale fishing areas in December; (2) using an inseason trigger mechanism to close the petrale sole fishing areas; and (3) soliciting voluntary action on the part of industry to reduce petrale sole catches.

The Council believed that either closing the petrale areas in December or implementing a trigger mechanism could be counter-productive, because, if fishers did not want to voluntarily forego the fishing opportunities, either measure would likely induce a race to fish before NMFS could implement a regulatory change. NMFS has asked industry to voluntarily reduce catches of petrale sole once before, in the summer of 2005, which resulted in an immediate 30-percent reduction of the petrale sole catch rate. The GMT believes that the risk of exceeding the ABC/OY without a regulatory action is low. However, if the catch rate appears too high, voluntary action on the part of industry is expected to be sufficient to keep catches within the ABC/OY. At the November 2006 Council meeting, several fish processors present pledged to reduce their petrale purchases for the November-December 2006 period, if necessary.

Therefore, the Pacific Council recommended and NMFS concurs that no regulatory action will be taken at this time, however NMFS will continue to monitor petrale catch closely and request industry to take voluntary action if catch rates appear too high.

Limited Entry Fixed Gear & Open Access Daily Trip Limit (DTL) Fishery for Sablefish South of 36° N. lat.

Beginning on October 1, 2006, the Pacific Council recommended and NMFS implemented a closure of the open access sablefish DTL fishery north of 36° N. lat. and increased the open access sablefish DTL fishery trip limits south of 36° N. lat. from “350 lb per day, or 1 landing per week of up to 1,050 lb” to “500 lb per day, or 1 landing per week of up to 1,050 lb.” Catch rates for sablefish south of 36° N. lat. increased substantially after this trip limit increase, and industry has asserted that sablefish landings have been in excess of 3 mt per day in Morro Bay alone. The best available data as of November 11, 2006 estimates catch in this area to be 145 mt out of an OY of 271 mt. If current catch rates continue through the end of the year, it is likely the sablefish OY could be exceeded in this area. The Pacific Council considered ways to control the catch of sablefish and believes a combination of a daily trip limit reduction and the introduction of a monthly catch limit is the best approach to slowing the catch rate of sablefish in this area.

Therefore, the Pacific Council recommended and NMFS is implementing a decrease in the limited entry fixed gear and open access sablefish DTL fishery trip limits, and an introduction of a monthly catch limit, south of 36° N. lat. beginning December 1 from “500 lb per day, or 1 landing per week of up to 1,050 lb.” to “300 lb per day, or 1 landing per week of up to 1,050 lb not to exceed 3,000 lb per 1 month.”

Oregon Recreational Fishery

In the Oregon recreational groundfish fishery, the Oregon Department of Fish and Wildlife (ODFW) manages cabezon, which is harvested primarily in state waters, under a state harvest limit. Oregon recreational catch estimates through July and projections from historical temporal catch patterns indicate that the Oregon state harvest limit for cabezon, which was 15.9 mt, has been reached. State harvest limits apply to landings by recreational ocean boats and do not include shore catch and discards. Effective September 22, 2006, Oregon prohibited cabezon retention in the recreational ocean and estuary boat fisheries. Shore fisheries, including shore-based diving, angling and spear fishing, were not affected by this closure. The most recent landings update, which includes data through September 3, 2006, confirmed that the management measure was appropriate; cabezon landings were 14.9 mt, or 94 percent of the harvest limit.

Therefore, in order to conform recreational management measures for Federal waters (3-200 nm) to management measures for Oregon state waters (0-3 nm), the Pacific Council recommended and NMFS is implementing a prohibition on the retention of cabezon by boat anglers in federal recreational regulations off Oregon.

Classification

These actions are taken under the authority of 50 CFR 660.370(c)and are exempt from review under Executive Order 12866.

These actions are authorized by the Pacific Coast groundfish FMP and its implementing regulations, and are based on the most recent data available. The aggregate data upon which these actions are based are available for public inspection at the Office of the Administrator, Northwest Region, NMFS, (see ADDRESSES) during business hours.

Pursuant to 5 U.S.C. 553(b)(B), there is good cause to waive prior notice and an opportunity for public comment on this action, as notice and comment would be impracticable. The data upon which these recommendations were based was provided to the Pacific Council, and the Pacific Council made its recommendations at its November 12-17, 2006, meeting in Del Mar, CA. There was not sufficient time after that meeting to draft this notice and undergo proposed and final rulemaking before these actions need to be in effect. For the actions to be implemented in this notice, prior notice and opportunity for comment would be impracticable because affording the time necessary for prior notice and opportunity for public comment would impede the Agency's function of managing fisheries using the best available science to approach without exceeding the OYs for federally managed species. The adjustments to management measures in this document affect commercial and recreational groundfish fisheries. Changes to the limited entry fixed gear and open access sablefish DTL fishery south of 36° N. lat. must be implemented in a timely manner by December 1, 2006, to keep harvest of sablefish within the OY for this area. Changes to the recreational fishery must be implemented by December 1, 2006, in order to conform to existing state regulations and to keep recreational harvest within state harvest limits. Delaying any of these changes would keep management measures in place that are not based on the best available data, which could risk fisheries exceeding their OYs or harvest guideline. This would impair managing fisheries to stay within the OYs and harvest guidelines for the year.

For these reasons, good cause also exists to waive the 30 day delay in effectiveness requirement under 5 U.S.C. 553 (d)(3).

List of Subjects in 50 CFR Part 660

Fisheries, Fishing, Indian fisheries.

Dated: November 24, 2006.
Lee Benaka,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. In § 660.384, paragraph (c)(2)(iii) is revised to read as follows:

§ 660.384 Recreational fishery management measures.

* * * * *

(c) * * *

(2) * * *

(iii) Bag limits, size limits. The bag limits for each person engaged in recreational fishing in the EEZ seaward of Oregon are two lingcod per day, which may be no smaller than 24 in (61 cm) total length; and 6 marine fish per day, which excludes Pacific halibut, salmonids, tuna, perch species, sturgeon, sanddabs, lingcod, striped bass, hybrid bass, offshore pelagic species and baitfish (herring, smelt, anchovies and sardines), but which includes rockfish, greenling, cabezon and other groundfish species. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish. “All-depth” season days are established in the annual management measures for Pacific halibut fisheries, which are published in the Federal Register and are announced on the NMFS halibut hotline, 1 800 662 9825. The minimum size limit for cabezon retained in the recreational fishery is 16 in (41 cm) and for greenling is 10 in (26 cm). Taking and retaining canary rockfish and yelloweye rockfish is prohibited at all times and in all areas. From October 1 through December 31, 2006, taking and retaining vermilion rockfish is prohibited in all areas by boat anglers. From December 1 through December 31, 2006, taking and retaining cabezon is prohibited in all areas by boat anglers.

* * * * *

3. In part 660, subpart G, Table 4 (South) and Table 5 (South) are revised to read as follows:

BILLING CODE 3510-22-S

[FR Doc. 06-9451 Filed 11-24-06; 2:07 pm]

BILLING CODE 3510-22-C